DEPARTMENT OF HEALTH AND HUMAN SERVICES

Administration for Children and Families

Withdrawl of Publication

This is to serve notice that the following Federal Register notice published on March 1, 2011, page 11250, is being rescinded:

Submission for OMB Review: Comment Request

Title: Child Care and Development Fund Tribal Plan Preprint—ACF-118-A.

OMB No.: 0970-0198.

The original notice published on February 9, 2011, pages 7218-7219 is still in effect.

Dated: March 9, 2011.
Robert Sargis,
Reports Clearance Officer.

[FR Doc. 2011-5845 Filed 3-14-11; 8:45 am]

BILLING CODE 4184-01-P